DEPARTMENT OF TRANSPORTATION

Federal Aviation Administration

14 CFR Part 39

[Docket No. FAA-2013-0349; Directorate Identifier 2012-SW-058-AD; Amendment 39-17576; AD 2013-18-03]

RIN 2120-AA64

Airworthiness Directives; Bell Helicopter Textron Canada Inc. Helicopters

AGENCY: Federal Aviation Administration (FAA), DOT.

ACTION: Final rule.

SUMMARY: We are adopting a new airworthiness directive (AD) for certain Bell Helicopter Textron Canada Inc. (BHT) Model 206A, 206B, and 206L helicopters. This AD requires replacing certain part-numbered engine auto-relight kit control boxes. This AD was prompted by a design review that revealed the control box chipset did not meet the required temperature range requirements, which could cause the control box to malfunction, disabling the engine auto-relight system. The actions of this AD are intended to prevent a disabled auto-relight system, failure of the engine to relight after a flame-out, increased pilot workload during a power loss emergency, and subsequent loss of control of the helicopter.

DATES: This AD is effective October 11, 2013.

ADDRESSES: For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Rao Edupuganti, Aviation Safety Engineer, Regulations and Policy Group, Rotorcraft Directorate, FAA, 2601 Meacham Blvd., Fort Worth, Texas 76137; telephone (817) 222-5110; email rao.edupuganti@faa.gov.

SUPPLEMENTARY INFORMATION:

Discussion

On April 22, 2013, at 78 FR 23688, the Federal Register published our notice of proposed rulemaking (NPRM), which proposed to amend 14 CFR part 39 to include an AD that would apply to BHT Model 206A and 206B helicopters, all serial numbers (S/N) except S/Ns 1, 2, and 3, with an engine auto-relight kit control box assembly (control box assembly) part number (P/N) 206-375-017-101 installed and BHT Model 206L helicopters, S/N 45001 through 45153 and 46601 through 46617, with a control box assembly P/N 206-375-017-103 installed. The NPRM proposed to require replacing the control box assembly with a new part-numbered control box assembly within 4 months. The proposed requirements were intended to prevent a disabled auto-relight system, failure of the engine to relight after a flame-out, increased pilot workload during a power loss emergency, and subsequent loss of control of the helicopter.

The NPRM was prompted by AD No. CF-2012-19, dated June 12, 2012, issued by Transport Canada Civil Aviation (TCCA), which is the aviation authority for Canada. TCCA issued AD No. CF-2012-19 to correct an unsafe condition for certain serial-numbered BHT Model 206A, 206B, and 206L helicopters with an engine auto-relight kit control box assembly (control box assembly) part number 206-375-017-101 or 206-375-017-103 installed. TCCA advises that these control box assemblies have a manufacturing defect which could disable the auto-relight system in the event of an engine flameout, subsequently requiring the pilot to re-start the engine manually. This condition could result in increased pilot workload during a power loss emergency in-flight and subsequent loss of control of the helicopter. AD No. CF-2012-19 specifies replacing the affected control boxes within 4 months to correct the unsafe condition.

Comments

We gave the public the opportunity to participate in developing this AD, but we did not receive any comments on the NPRM (78 FR 23688, April 22, 2013).

FAA's Determination

These helicopters have been approved by the aviation authority of Canada and are approved for operation in the United States. Pursuant to our bilateral agreement with Canada, TCCA, its technical representative, has notified us of the unsafe condition described in its AD. We are issuing this AD because we evaluated all information provided by TCCA and determined the unsafe condition exists and is likely to exist or develop on other helicopters of these same type designs and that air safety and the public interest require adopting the AD requirements as proposed.

Related Service Information

BHT has issued Alert Service Bulletin (ASB) No. 206-11-127 for Model 206A and 206B helicopters and ASB No. 206L-11-167 for Model 206L helicopters, both dated May 2, 2011. Both ASBs specify replacing the affected control box assembly with an upgraded control box assembly.

Costs of Compliance

We estimate that this AD will affect 1,357 helicopters of U.S. Registry. We estimate that operators may incur the following costs in order to comply with this AD. If installed, replacing the control box assembly would require about 2 work-hours at an average labor rate of $85 per hour and required parts would cost about $18,974, for a cost per helicopter of $19,144.

According to BHT's service information, some of the costs of this AD may be covered under warranty, thereby reducing the cost impact on affected individuals. We do not control warranty coverage by BHT. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-18-03 Bell Helicopter Textron Canada Inc (BHT): Amendment 39-17576; Docket No. FAA-2013-0349; Directorate Identifier 2012-SW-058-AD.

(a) Applicability

This AD applies to the following helicopters, certificated in any category:

(1) BHT Model 206A and 206B helicopters, all serial numbers (S/N) except S/Ns 1, 2, and 3, with an engine auto-relight kit control box assembly (control box assembly) part number (P/N) 206-375-017-101 installed; and

(2) BHT Model 206L helicopters, S/N 45001 through 45153 and 46601 through 46617, with a control box assembly P/N 206-375-017-103 installed.

(b) Unsafe Condition

This AD defines the unsafe condition as an inoperative control box assembly. This condition could result in a disabled auto-relight system, failure of the engine to relight after a flame-out, increased pilot workload during a power loss emergency, and subsequent loss of control of the helicopter.

(c) Effective Date

This AD becomes effective October 11, 2013.

(d) Compliance

You are responsible for performing each action required by this AD within the specified compliance time unless it has already been accomplished prior to that time.

(e) Required Actions

Within 4 months, replace the control box assembly:

(1) For Model 206A and 206B helicopters, replace control box assembly P/N 206-375-017-101 with a control box assembly P/N 206-375-017-105.

(2) For Model 206L helicopters, replace control box assembly P/N 206-375-017-103 with a control box assembly P/N 206-375-017-107.

(f) Alternative Methods of Compliance (AMOCs)

(1) The Manager, Safety Management Group, FAA, may approve AMOCs for this AD. Send your proposal to: Rao Edupuganti, Aviation Safety Engineer, Regulations and Policy Group, Rotorcraft Directorate, FAA, 2601 Meacham Blvd., Fort Worth, Texas 76137; telephone (817) 222-5110; email rao.edupuganti@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) BHT Alert Service Bulletin (ASB) No. 206-11-127 for Model 206A and 206B helicopters and ASB No. 206L-11-167 for Model 206L helicopters, both dated May 2, 2011, which are not incorporated by reference, contain additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 2601 Meacham Blvd., Room 663, Fort Worth, Texas 76137.

(2) The subject of this AD is addressed in Transport Canada Civil Aviation (TCCA) AD CF-2012-19, dated June 12, 2012. You may view the TCCA AD at http://www.regulations.gov in Docket No. FAA-2013-0349.

(h) Subject

Joint Aircraft Service Component (JASC) Code: 7410: Ignition Power Supply.

Issued in Fort Worth, Texas, on August 21, 2013.
Kim Smith,
Manager, Rotorcraft Directorate, Aircraft Certification Service.

[FR Doc. 2013-21578 Filed 9-5-13; 8:45 am]

BILLING CODE 4910-13-P